DEPARTMENT OF TRANSPORTATION

Office of the Secretary

Notice of Applications for the Certificates of Public Convenience and Necessity and Foreign Air Carrier Permits Filed Under Subpart B (formerly Subpart Q) During the Week Ending April 27, 2001

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-9558.

Date Filed: April 25, 2001.

Due Date for Answers, Conforming Applications, or Motion to Modify Scope: May 16, 2001.

Description: Application of DaimlerChrysler Aviation GmbH pursuant to 49 U.S.C. Section 41302, Subpart B and Part 211, requesting issuance of a foreign air carrier permit, authorizing it to provide charter foreign air transportation of persons, property and mail; (1) between points in the Federal Republic of Germany and the United States; and, (2) between points in the United States and points in third countries as authorized by and in accordance with the provisions of Part 212, and the Air Transport Agreement between the Governments of the United States and the Federal Republic of Germany.

Docket Number: OST-2001-9566.

Date Filed: April 26, 2001.

Due Date for Answers, Conforming Applications, or Motion to Modify Scope: May 17, 2001.

Description: Application of Cherokee Air, Ltd. pursuant to 49 U.S.C. Section 41301 and Subpart Q, requesting renewal of its foreign air carrier permit authority, authorizing it to engage in more than 10 on-demand charter flights each month from Marsh Harbour, Abaco, Commonwealth of the Bahamas, to the United States.

Dorothy Y. Beard,
Federal Register Liaison.

[FR Doc. 01-12112 Filed 5-14-01; 8:45 am]

BILLING CODE 4910-62-P